COMMISSION ON CIVIL RIGHTS

Agenda and Notice of Public Meeting of the District of Columbia Advisory Committee

Notice is hereby given, pursuant to the provisions of the rules and regulations of the U.S. Commission on Civil Rights, that a meeting of the District of Columbia Advisory Committee to the Commission will convene at 8:45 a.m. and adjourn at 12:30 p.m. on Friday, July 27, 2001, at the U.S. Commission on Civil Rights, 5th Floor Conference Room, 624 9th Street NW, Washington, DC 20425. The Advisory Committee will discuss its March 15, 2001 forum on equal access to financial opportunities in the District of Columbia, review members' draft summaries of panelist presentations, and plan future activities. In preparation for the Committee's planned activity on police-community relations, the Committee will invite representatives from the District's newly formed Office of Citizen Complaint Review, the Metropolitan Police Department, and community advocacy groups.

Persons desiring additional information, or planning a presentation to the Committee, should contact Chairperson Rev. Lewis Anthony, 202-483-3262, or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, July 3, 2001.
Edward A. Hailes, Jr.,
General Counsel.

[FR Doc. 01-17343 Filed 7-10-01; 8:45 am]

BILLING CODE 6335-01-P